DEPARTMENT OF TRANSPORTATION

Federal Railroad Administration

[Docket Number FRA-2020-0081]

Petition for Waiver of Compliance

Under part 211 of title 49 Code of Federal Regulations (CFR), this document provides the public notice that on September 23, 2020, Canadian National Railway Company (CN) petitioned the Federal Railroad Administration (FRA) for a waiver of compliance from certain provisions of the Federal railroad safety regulations contained at 49 CFR part 232, Brake System Safety Standards for Freight and Other Non-Passenger Trains and Equipment; End-of-Train Devices. FRA assigned the petition Docket Number FRA-2020-0081.

CN seeks relief from the requirements of 49 CFR 232.219 regarding the Class III airbrake test for helper locomotives equipped with the “Helperlink” system. Specifically, CN requests relief on trains with one or more distributed power (DP) locomotives on the rear in helper operations without cutting in the brake pipe to the helper locomotive.

CN explains that the operation of trains over Steelton Hill, and intermittently on Hawthorne Hill, near Superior, Wisconsin, as well as Byron Hill, near Fond-Du-Lac, Wisconsin, require the use of helper locomotives. CN currently shoves with conventional helper locomotives and cannot utilize the “Helperlink” technology due to a lack of an End-of-Train Telemetry Device on many trains with DP at the rear the train. The number of trains with this configuration, particularly in the bulk product category, has been steadily increasing over the past few years.

CN contends “Helperlink” technology will help to eliminate unnecessary risks to transportation employees in helper service, as CN helper service employees could couple and uncouple from trains being assisted over grade from the rear without cutting in train-line air, eliminating going between rolling equipment twice per train assisted. The waiver would reduce (1) the amount of mounting and dismounting equipment an employee does during their shift, and (2) related slip/trip/fall incidents from occurring. Additionally, CN states relieving train crews from stopping their trains at the top of mountain grades to cut away helpers will improve the overall train handling scenario and reduce the potential for in-train mechanical failures related to having to start and stop trains on varying degrees of grade.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by November 23, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-22205 Filed 10-6-20; 8:45 am]

BILLING CODE 4910-06-P